DEPARTMENT OF ENERGY

Federal Energy Regulatory Commission

[Docket No AD10-2-000]

Guidance on Simultaneous Transmission Import Limit Studies; Notice Allowing Post-Technical Conference Comments

December 29, 2009.

On December 16, 2009, Commission staff convened a technical conference in the above-referenced proceeding.¹ The purpose of the technical conference was to provide guidance for performing Simultaneous Transmission Import Limit (SIL) studies. All interested persons are invited to file written comments no later than January 22, 2010 that relate to the issues that were the subject of the technical conference.

¹ Carolina Power & Light Company, 128 FERC ¶ 61,039, order on clarification, 129 FERC ¶ 61,152 (2009).

For further information please contact Joseph Cholka at (202) 502-8876 or by e-mail at joseph.cholka@ferc.gov.

Kimberly D. Bose,
Secretary.

[FR Doc. E9-31331 Filed 1-4-10; 8:45 am]

BILLING CODE 6717-01-P